DEPARTMENT OF TRANSPORTATION

Federal Aviation Administration

[Docket No. FAA-2023-1187; Summary Notice No. 2023-25]

Petition for Exemption; Summary of Petition Received; The Boeing Company

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before July 18, 2023.

ADDRESSES: Send comments identified by docket number FAA-2023-1187 using any of the following methods:

• Federal eRulemaking Portal: Go to https://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Daniel Gilbert, AIR-646, Federal Aviation Administration, phone 405-954-5833, email daniel.gilbert@faa.gov.

SUPPLEMENTARY INFORMATION:

Petition for Exemption

Docket No.: FAA-2023-1187.

Petitioner: The Boeing Company.

Section(s) of 14 CFR Affected: §§ 25.863(a), 25.863(b)(3),25.901(c), 25.981(a)(3), 25.981(b), 25.981(d), and 25.1309(b).

Description of Relief Sought: Donald W. Ruhmann, on behalf of The Boeing Company (Boeing), is seeking relief from the requirements of §§ 25.863(a), 25.863(b)(3), 25.901(c), 25.981(a)(3), 25.981(b), 25.981(d), and 25.1309(b) of title 14 of Code of Federal Regulations (14 CFR), and Special Conditions 25-414-SC as they apply to airplane lightning protection. Specifically, Boeing is proposing to incorporate type design changes on production Model 787-8, 787-9, and 787-10 airplanes.

This notice is published pursuant to 14 CFR 11.85.

Issued in Washington, DC, on June 23, 2023.
Daniel J. Commins,
Manager, Technical Writing Section.

[FR Doc. 2023-13774 Filed 6-27-23; 8:45 am]

BILLING CODE 4910-13-P